DEPARTMENT OF THE INTERIOR

[FWS-R4-FHC-2012-N254; FVHC98130406900Y4-XXX-FF04G01000]

Deepwater Horizon Oil Spill; Draft Early Restoration Plan and Environmental Review

AGENCY: Interior.

ACTION: Notice of availability; request for comments.

SUMMARY: In accordance with the Oil Pollution Act of 1990 (OPA), the National Environmental Policy Act (NEPA), and the Framework Agreement for Early Restoration Addressing Injuries Resulting from the Deepwater Horizon Oil Spill, the Federal and State natural resource trustee agencies (Trustees) have prepared a Phase II Draft Early Restoration Plan and Environmental Review (DERP/ER) describing and proposing two additional early restoration projects intended to continue the process of restoring natural resources and services injured or lost as a result of the Deepwater Horizon oil spill, which occurred on or about April 20, 2010, in the Gulf of Mexico. The purpose of this notice is to inform the public of the availability of the DERP/ER and to seek written comments on the proposed restoration alternative presented in the DERP/ER.

DATES:

Comments Due Date: We will consider public comments received on or before December 10, 2012.

Public Meetings: A public meeting is scheduled to facilitate public review and comment on the DERP/ER. Both written and verbal public comments will be taken at the meeting. The meeting will be held on November 13, 2012, at the Escambia County Central Complex Building (a.k.a. the LEED Building), Room 104, 3363 West Park Place, Pensacola, Florida 32505. An open house will begin at 6:00 p.m. (central time); the formal meeting, including a presentation of the DERP/ER will begin at 7:00 p.m. (central time). A meeting notice will be posted on the web at www.gulfspillrestoration.noaa.gov.

ADDRESSES:

Obtaining Documents: You may download the DERP/ER and the framework agreement at http://www.gulfspillrestoration.noaa.gov or http://www.doi.gov/deepwaterhorizon. You may also review hard copies of the DERP/ER at any of the public repositories listed at http://www.gulfspillrestoration.noaa.gov.

Submitting Comments: You may submit comments on the DERP/ER by one of following methods:

• Via the Web: http://www.gulfspillrestoration.noaa.gov.

• For electronic submission of comments containing attachments, email: fw4coastalDERPcomments@fws.gov.

• U.S. Mail: c/o U.S. Fish and Wildlife Service, P.O. Box 2099, Fairhope, Alabama 36533.

FOR FURTHER INFORMATION CONTACT: Brian Spears at fw4coastalDERPcomments@fws.gov.

SUPPLEMENTARY INFORMATION:

Introduction

On or about April 20, 2010, the mobile offshore drilling unit Deepwater Horizon, which was being used to drill a well for BP Exploration and Production, Inc. (BP), in the Macondo prospect (Mississippi Canyon 252—MC252), experienced a significant explosion, fire and subsequent sinking in the Gulf of Mexico, resulting in discharges of oil and other substances from the rig and from the wellhead on the seabed. An estimated 4.9 million barrels (210 million gallons) of oil were released from the well into the Gulf of Mexico over a period of 87 days. In addition, approximately 1.84 million gallons of dispersants were applied to the waters of the spill area in an attempt to minimize impacts from spilled oil. Affected resources include ecologically, recreationally, and commercially important species and their habitats in the Gulf of Mexico and along the coastal areas of Alabama, Florida, Louisiana, Mississippi, and Texas.

Federal and State trustees (listed below) are conducting the natural resource damage assessment for the Deepwater Horizon oil spill under the Oil Pollution Act 1990 (OPA; 33 U.S.C. 2701 et seq.). Pursuant to OPA, federal and state agencies and Indian tribes may act as trustees on behalf of the public to assess natural resource injuries and losses and to determine the damages required to compensate the public for those injuries and losses. OPA further instructs the designated trustees to develop and implement a plan for the restoration, rehabilitation, replacement, or acquisition of the equivalent of the injured natural resources under their trusteeship. The trustees have developed this DERP/ER under the Framework Agreement.

The trustees are:

• U.S. Department of the Interior (DOI), as represented by the National Park Service, U.S. Fish and Wildlife Service, and Bureau of Land Management;

• National Oceanic and Atmospheric Administration (NOAA), on behalf of the

U.S. Department of Commerce;

• U.S. Department of Agriculture (USDA);

• U.S. Department of Defense (DOD);

• U.S. Environmental Protection Agency (USEPA);

• State of Louisiana Coastal Protection and Restoration Authority, Oil Spill Coordinator's Office, Department of Environmental Quality, Department of Wildlife and Fisheries and Department of Natural Resources;

• State of Mississippi Department of Environmental Quality;

• State of Alabama Department of Conservation and Natural Resources and Geological Survey of Alabama;

• State of Florida Department of Environmental Protection and Fish and Wildlife Conservation Commission; and

• For the State of Texas: Texas Parks and Wildlife Department, Texas General Land Office, and Texas Commission on Environmental Quality.

Background

On April 20, 2011, BP agreed to provide up to $1 billion toward early restoration projects in the Gulf of Mexico to address injuries to natural resources caused by the Deepwater Horizon oil spill. This early restoration agreement, entitled “Framework for Early Restoration Addressing Injuries Resulting from the Deepwater Horizon Oil Spill” (Framework Agreement), represents a preliminary step toward the restoration of injured natural resources. The Framework Agreement is intended to expedite the start of restoration in the Gulf in advance of the completion of the injury assessment process. The Framework Agreement provides a mechanism through which the Trustees and BP can work together “to commence implementation of early restoration projects that will provide meaningful benefits to accelerate restoration in the Gulf as quickly as practicable” prior to the resolution of the Trustees' natural resource damages claim.

The Trustees actively solicited public input on restoration project ideas through a variety of mechanisms, including public meetings, electronic communication, and creation of a Trustee-wide public Web site and database to share information and receive public project submissions. Their key objective in pursuing early restoration is to secure tangible recovery of natural resources and natural resource services for the public's benefit while the longer-term process of fully assessing injury and damages is underway. As the first step in this accelerated process, the Trustees released, after public review of a draft, a Phase I Early Restoration Plan/Environmental Assessment (Phase I ERP/EA) in April 2012. The Phase I ERP is currently being implemented.

In a continuation of the early restoration process, the Trustees are proposing two additional early restoration projects to address response injuries from the Deepwater Horizon oil spill. These projects are approved in principle by BP. They address injuries to the nesting habitats of beach nesting birds and loggerhead sea turtles that resulted from response activities to the oil spill (e.g., efforts to prevent oil from reaching beaches and to remove oil from beaches). These projects address a number of specific public comments on the Phase I projects that requested development of additional habitat and wildlife-based early restoration projects.

Because loggerhead sea turtles and beach nesting birds begin nesting along the Northeast Gulf coast in February, the Trustees recognize the need to implement these two proposed projects in a timely manner to be effective during the 2013 breeding season. Therefore, the Trustees are proposing these projects at this time while continuing to work with BP to develop additional restoration projects in accordance with the Framework Agreement. The Alternatives within this plan are not intended to, and do not fully, address all injuries caused by the spill or provide the extent of restoration needed to satisfy claims against BP.

Overview of the Draft ERP/ER

Draft Early Restoration Plan Alternatives, Including Our Proposed Alternative

The Draft ERP/ER is being released in accordance with the Oil Pollution Act, the Natural Resources Damage Assessment (NRDA) regulations found in the Code of Federal Regulations (CFR) at 15 CFR part 990, the National Environmental Policy Act (42 U.S.C. 4321 et seq.), and the Framework for Early Restoration Addressing Injuries Resulting from the Deepwater Horizon Oil Spill. It describes two early restoration alternatives: No Action—Natural Recovery (required for consideration by OPA) and Proposed Action—Proposed Early Restoration Projects. Under the No Action alternative, the trustees would not implement early restoration projects as described in this Draft ERP/ER. Rather, the No Action approach would result in delaying protection and improvement of important nesting habitats injured by the oil spill.

Under the Proposed Action, the Trustees are considering two projects that meet the selection criteria, which are also described in the Draft ERP/ER.

Proposed Action—Proposed Early Restoration Projects

The proposed restoration projects are intended to protect and enhance beach nesting habitats used by birds and sea turtles by, among other things, protecting bird nesting habitat with symbolic fencing and signs and reducing the presence of harmful lighting on certain beaches as described in the plan. The proposed projects are: (1) Comprehensive Program for Enhanced Management of Avian Breeding Habitat Injured by Response in the Florida Panhandle, Alabama, and Mississippi; and (2) Improving Habitat Injured by Spill Response: Restoring the Night Sky. Each of these projects will benefit coastal nesting habitats injured by response to the Deepwater Horizon oil spill.

Next Step

After the public comment period ends, the Trustees will analyze and address the comments and will consider all input received before an ERP/ER is finalized. As described above, a public meeting is scheduled to facilitate the public review and comment process. During public review and subsequent revision of the ERP/ER, negotiations with BP will be completed and approved projects will proceed to implementation, pending compliance with all applicable state and federal laws.

Public Availability of Comments

Before including your address, phone number, email address, or other personal identifying information in your comment, you should be aware that your entire comment including your personal identifying information, may be publicly available at any time. While you can ask us in your comment to withhold your personal identifying information from public review, we cannot guarantee that we will be able to do so.

Administrative Record

The documents comprising the Administrative Record can be viewed electronically at the following location: http://www.doi.gov/deepwaterhorizon.

Author

The primary author of this notice is Jim Haas (james_haas@nps.gov).

Authority

The authority of this action is the Oil Pollution Act of 1990 (33 U.S.C. 2701 et seq.), the implementing Natural Resource Damage Assessment regulations found at 15 CFR part 990, and the Framework Agreement for Addressing Injuries Resulting from the Deepwater Horizon Oil Spill.

Cynthia K. Dohner,
DOI Authorized Official.

[FR Doc. 2012-27080 Filed 11-5-12; 8:45 am]

BILLING CODE 4310-55-P